DEPARTMENT OF THE INTERIOR

Fish and Wildlife Service

[FWS-R6-R-2008-N0122; 60138-1265-6CCP-S3]

Draft Comprehensive Conservation Plan for Sullys Hill National Game Preserve, Fort Totten, ND

AGENCY: Fish and Wildlife Service, Interior.

ACTION: Notice of availability.

SUMMARY: We, the U.S. Fish and Wildlife Service (Service) announce that our Draft Comprehensive Conservation Plan (CCP) and Environmental Assessment (EA) for Sullys Hill National Game Preserve is available. This Draft CCP/EA describes how the Service intends to manage this refuge for the next 15 years.

DATES: To ensure consideration, we must receive your written comments on the draft CCP/EA by July 28, 2008.

ADDRESSES: Please provide written comments to Laura King, Planning Team Leader, c/o Tewaukon National Wildlife Refuge, 9756 143½ Ave., SE., Cayuga, North Dakota 58013 or via facsimile at (701) 724-3683; or electronically to laura_king@fws.gov. A copy of the CCP/EA may be obtained by writing to U.S. Fish and Wildlife Service, Division of Refuge Planning, 134 Union Boulevard, Suite 300, Lakewood, Colorado 80228; or by download from http://mountain-prairie.fws.gov/planning.

FOR FURTHER INFORMATION CONTACT: Laura King, (701) 724-3596 (phone); 701-724-3683 (fax); or laura_king@fws.gov (e-mail).

SUPPLEMENTARY INFORMATION: Sullys Hill National Game Preserve, established in 1904, is a 1,675-acre National Wildlife Refuge sitting on the south shores of Devils Lake, about 10 miles south of the city of Devils Lake, North Dakota. This Refuge supports a unique community of habitats such as an oak, ash, basswood and aspen woodland, mixed grassed prairie, and some natural wetlands. These diverse habitats provide “edge” habitat for over 250 species of migratory birds, plains bison, Rocky Mountain elk, white-tailed deer, turkeys, and prairie dogs.

The Refuge is one of only 19 designated natural areas in North Dakota, of which only four are National Wildlife Refuges. It is also one of only four Refuges nationally established for bison conservation.

Sullys Hill National Game Preserve has over 60,000 visitors annually. The Refuge is becoming a progressive regional conservation learning center, promoting the conservation role of the National Wildlife Refuge System while educating visitors about the functions and benefits of prairie wetlands and grasslands. Per its legislative purpose, there is no hunting permitted on this Refuge.

This draft CCP/EA identifies and evaluates three alternatives for managing the refuge for the next 15 years. Under Alternative A, funding, staff levels, and management activities at the Refuge would not change. Ungulates would be maintained at historic levels (25-35 bison, 20-30 elk and 30-50 white-tailed deer). Season-long grazing with infrequent prescribed fire would continue, limiting forest regeneration and resulting in continued decline of native prairie. Available habitat for forest interior breeding birds would be limited. Herd health history would continue to be collected and shared with applicable State and Federal agencies. The environmental education and interpretation program would continue to take requests to participate in various teacher and/or Service staff-led on-site conservation programs. Visitor use would be limited to the seasonal auto tour route, nature trails, and visitor center depending primarily on volunteer availability. Cultural resource evaluations would be done to fulfill compliance with historic preservation laws. Only one staff person would be assigned to this Refuge.

Under Alternative B, habitat management would begin to address reduced forest regeneration by managing the uncontrolled browsing of bison, elk, and white-tailed deer within the big game forests. Ungulates would be maintained, as per the Fenced Animal Management Plan (25-40 bison; 15-25 elk; 10-30 white-tailed deer). The refuge would establish woodland restoration units, totalling 80 acres, using various management tools including exclusion fences. Chemical, biological and mechanical techniques (such as prescribed fire) would be used to enhance habitats for the benefit of grassland and forest interior breeding birds. Fuels treatment (including prescribed fire or other mechanical means) would be used to reduce hazardous fuels, minimizing the threat to life and property. Invasive species would be treated and areas restored. Visitors would be provided seasonal opportunities to view wildlife and learn about the Refuge. There would be an increase in on-site educational programs for adults and children. These and other special events would be designed to garner support and appreciation for the Refuge, North Dakota's wetland and grassland resources, and the conservation role of the Refuge System. The Refuges limited fishery would be used for educational programs only. There would be an increased law enforcement presence, particularly during peak visitor-use days. Cultural resource surveys would be completed in high probability areas. Two full time and one career seasonal staff would be added to address visitor services, biological, law enforcement, and maintenance needs.

Under Alternative C, the Proposed Action, habitat management would address enhancing and restoring native prairie and promoting forest regeneration. Ungulate populations would be maintained at lower levels (≤20 bison, ≤18 elk, and ≤18 white-tailed deer) to control the overgrazing and overbrowsing that has impacted Refuge habitats. Management tools, including exclusion fences and other appropriate methods such as chemical, biological, and mechanical techniques (including prescribed fire) will be used to restore and enhance habitat for the benefit of forest interior breeding and grassland nesting birds. Selected hay land acres would be restored to native prairie. Fuels treatment (including prescribed fire or other mechanical means) would be used to reduce hazardous fuels, minimizing the threat to life and property. Invasive species would be treated and areas restored. The ungulate herd health program would take a more active disease surveillance and treatment approach, including timely introduction of ungulates to maintain genetic health, particularly for the Refuges plains bison.

There would be an increase in delivery of both on-site and off-site programming of youth environmental education programs. In cooperation with local teachers, a formal wetland and grassland conservation curriculum would be designed for targeted grade levels and meet local and State standards. Emphasis would be placed on developing education partnerships with Spirit Lake Nation schools and agencies. The Refuges limited fishery would be used for educational programs only. Visitor, facility, and wildlife safety would be improved through regular routine patrols during peak and off-peak public use. A comprehensive cultural resource survey of the Refuge would be completed in partnership with other agencies and organizations. Four full-time staff would be recruited to expand, develop, and conduct biological, visitor services, law enforcement, and maintenance programs.

All public comment information provided voluntarily by mail, by phone, or at meetings (for example, names, addresses, letters of comment, input recorded during meetings) becomes part of the official Public Record. If requested under the Freedom of Information Act by a private citizen or organization, the Service may provide copies of such information. The Environmental Review of this project will be conducted in accordance with the requirements of the National Environmental Policy Act (NEPA) of 1969, as amended (42 U.S.C. 4321 et seq.); NEPA Regulations (40 CFR parts 1500-1508); other appropriate Federal laws and regulations; Executive Order 12996; the National Wildlife Refuge System Improvement Act of 1997; and Service policies and procedures for compliance with those laws and regulations.

Dated: May 27, 2008.
James J. Slack,
Deputy Regional Director.

[FR Doc. E8-14483 Filed 6-25-08; 8:45 am]

BILLING CODE 4310-55-P